DEPARTMENT OF THE INTERIOR

Bureau of Land Management

[LLAZP00000.L122000000.DF0000.LXSSA3610000]

Notice of Intent To Temporarily Close Selected Public Lands in Maricopa and Pinal Counties, AZ

AGENCY: Bureau of Land Management, Interior.

ACTION: Notice of intent to temporarily close.

SUMMARY: The Bureau of Land Management (BLM) proposes to temporarily close public lands to public entry for all uses for up to 180 days on certain public lands administered by the Hassayampa and Lower Sonoran Field Offices, during the construction of four recreational shooting sports sites. Additionally, temporary closures of these sites, as well as one additional recreational shooting sports site, are proposed for a few days on a periodic basis for public safety, maintenance, administration, or compliance with applicable laws.

DATES: Interested parties may submit written comments regarding the impacts to hunting, fishing, and recreational shooting no later than April 20, 2020.

ADDRESSES: Interested parties may submit comments regarding the proposed temporary closure of public lands to hunting, fishing, and recreational shooting, during the proposed temporary closures to public entry by any of the following methods:

• BLM National NEPA Website: https://go.usa.gov/xmfVv.

• Mail: BLM, Phoenix District Office, Attention: Tyler Lindsey, 21605 N 7th Avenue, Phoenix, AZ 85027.

FOR FURTHER INFORMATION CONTACT: John (Jake) Szympruch, District Chief Ranger at email: jszympru@blm.gov; or Lane Cowger, Hassayampa Field Office Manager at email: lcowger@blm.gov; or Ed Kender, Lower Sonoran Field Office Manager at email: ekender@blm.gov; or at 623-580-5500. Persons who use a telecommunications device for the deaf (TDD) may call the Federal Relay Service (FRS) at 1-800-877-8339 to contact the above individuals during normal business hours. The FRS is available 24 hours a day, 7 days a week, to leave a message or question. You will receive a reply during normal hours.

SUPPLEMENTARY INFORMATION: The BLM Hassayampa and Lower Sonoran Field Offices propose to temporarily close public lands to public entry for all uses during the construction of the Box Canyon, Church Camp Road, Narramore Road, and Saddleback Mountain recreational shooting sports sites. After construction and during the operation of each site, temporary closures at these recreational shooting sports sites, as well as Baldy Mountain (which is located on public lands administered by the Hassayampa Field Office) are proposed on a recurring basis for public safety, maintenance, administration, or compliance with applicable laws within the smallest area for the least amount of time. The Baldy Mountain, Church Camp Road, Narramore Road, and Saddleback Mountain sites are located in Maricopa County. Box Canyon is located in Pinal County.

In compliance with the John D. Dingell, Jr. Conservation, Management, and Recreation Act (Dingell Act; 16 U.S.C. 7913(a)(1)), and in compliance with 43 CFR 8364.1, notice of intent is hereby given that the proposed closures would temporarily close public lands to public entry, including entry for hunting, fishing, and recreational shooting. These proposed temporary closures are necessary to ensure public and worker safety during construction of the recreational shooting sports sites. To the extent feasible, only one or two sites would be closed at a time until construction is completed, and the recreational shooting sports site(s) can be opened for public use. The BLM has not determined specific construction dates for Box Canyon, Church Camp Road, Narramore Road, or Saddleback Mountain recreational shooting sports sites. The temporary closures for each site should not exceed 180 days. However, if construction exceeds 180 days, renewal of the temporary closure would require separate notice of intent to be published in the Federal Register to initiate an additional 30-day comment period prior to a renewal decision being issued.

These temporary closures for construction and operation were analyzed under the Recreational Shooting Sports Project Final Environmental Assessment (January 2020) and in consultation with the Arizona Game and Fish Department.

Under the Dingell Act, the BLM is required to consider public comments when temporary closures are proposed and would affect hunting, fishing, and recreational shooting on public lands. This notice announces the beginning of the 30-day comment period for the proposed temporary closure of public lands to all entry, whereby comments on impacts to hunting, fishing, and recreational shooting are being accepted by the BLM. Following the public comment period, the BLM will issue a final decision which will respond in a reasonable manner to the comments received, will explain how significant issues were resolved, and will be made available on the project website at: https://go.usa.gov/xmfVv. Before including your address, phone number, email address, or other personal identifying information in any comment, be aware that your entire comment, including your personal identifying information, may be made publicly available at any time. While you can ask us in your comment to withhold your personal identifying information from public review, the BLM cannot guarantee that we will be able to do so.

The legal description of the affected public lands are:

Baldy Mountain (Approximately 399 Acres)

Gila and Salt River Meridian, Arizona

T. 6 N., R. 1 W.,

Sec. 10, SE¼NE¼, NE¼SE¼ (portions of);

Sec. 11, SW¼NE¼, S½NW¼, SW¼, NW¼SE¼ (portions of).

Box Canyon (Approximately 478 Acres)

Gila and Salt River Meridian, Arizona

T. 5 S., R. 2 E.,

Sec. 9, N½, N½SW¼, N½SE¼ (portions of).

Church Camp Road (Approximately 200 Acres)

Gila and Salt River Meridian, Arizona

T. 6 N., R. 1 W.,

Sec. 23, E½SW¼, NW¼SE¼, S½SE¼.

Narramore Road (Approximately 163 Acre)

Gila and Salt River Meridian, Arizona

T. 1 S., R. 5 W.,

Sec. 17, S½SW¼, S½SE¼.

Saddleback Mountain (Approximately 400 Acres)

Gila and Salt River Meridian, Arizona

T. 6 N., R. 1 W.,

Sec. 26, S½;

Sec. 35, NW¼NE¼, NE¼NW¼.

A copy of this notice and map for the closure area will be posted at least 30 days in advance of the effective date of the temporary closure at the main entry points to each of these sites, available at the Phoenix District Office, 21605 North 7th Avenue, Phoenix, Arizona 85027, and available on the project website located at: https://go.usa.gov/xmfVv. This notice satisfies the requirements found at 43 CFR 8364.1. Therefore, the temporary closures authorized in the final decision would be enforced by the BLM under the authority of Section 303(a) of the Federal Land Policy and Management Act of 1976 (43 U.S.C. 1733(a)), 43 CFR 8360.0-7, and 43 CFR 8364.1 within the closure area for each site.

Temporary closures authorized in the final decision would cover the entire affected areas as described earlier and in the time period as described above would be temporarily closed to public entry.

The following persons would be exempt from the proposed temporary closure orders: Federal, State, and local officers and employees in the performance of their official duties; members of organized rescue or fire-fighting forces in the performance of their official duties; and persons with written authorization from the BLM.

Any person who violates temporary closures authorized in a final decision may be tried before a United States Magistrate and fined in accordance with 18 U.S.C. 3571, imprisoned no more than 12 months under 43 U.S.C. 1733(a) and 43 CFR 8360.0-7, or both. In accordance with 43 CFR 8365.1-7, State or local officials may also impose penalties for violations of Arizona law.

(Authority: 43 CFR 8364.1 and 16 U.S.C. 7913)

Leon Thomas,
District Manager.

[FR Doc. 2020-05956 Filed 3-19-20; 8:45 am]

BILLING CODE 4310-32-P